ENVIRONMENTAL PROTECTION AGENCY

[EPA-HQ-OEI-2014-0466; FRL-10120-01-OMS]

Privacy Act of 1974; System of Records

AGENCY: Office of Mission Support, Environmental Protection Agency (EPA).

ACTION: Notice of a modified system of records.

SUMMARY: The U.S. Environmental Protection Agency's (EPA) Office of Mission Support, Administration and Resources Management (OMS-ARM) is giving notice that it proposes to modify a system of records pursuant to the provisions of the Privacy Act of 1974. The Labor and Employee Relations Information System (LERIS) is being modified to change the name and location of the system to Labor and Employee Relations Tracking System (LERTS), per a vendor change. Additionally, EPA is modifying the SORN previously published in 2014 to update the system manager name and to add applicable routine uses. The purpose of the system is to allow Labor and Employee Relations (LER) specialists to track, manage and report on a full spectrum of labor and employee relations cases throughout the Agency.

DATES: Persons wishing to comment on this system of records notice must do so by December 5, 2022. New routine uses for this modified system of records will be effective December 5, 2022.

ADDRESSES: Submit your comments, identified by Docket ID No. EPA-HQ-OEI-2014-0466, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OEI-2014-0466. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and current operating status is available at https://www.epa.gov/dockets.

FOR FURTHER INFORMATION CONTACT: Phil Brown, Brown.Phil@epa.gov, 202-564-2607, Director, Labor and Employee Relations Division (LERD), Office of Human Resources (OHR), Office of Mission Support (OMS), U.S. Environmental Protection Agency, 1200 Pennsylvania Avenue NW, Washington, DC 20460.

SUPPLEMENTARY INFORMATION: LERIS is being modified to (1) change the name of the system to LER Tracking System (LERTS), (2) update the location, both per a vendor change, (3) update the system manager per organizational changes, and (4) add applicable routine uses F, G, H, I, J, K, and M per Agency policy and practice, and OMB Memorandum M-17-12. The system will continue to be used by EPA LER personnel to track, manage, and report on a full spectrum of labor and employee relations cases throughout the Agency.

SYSTEM NAME AND NUMBER:

Labor and Employee Relations Tracking System (LERTS), EPA-68.

SECURITY CLASSIFICATION:

Unclassified.

SYSTEM LOCATION:

The EPA component responsible for the system is LERD, OHR, OMS, 1200 Pennsylvania Ave. NW, Washington, DC 20460. Records are hosted by AINS, Inc., (an EPA contractor) 806 W Diamond Ave. #400, Gaithersburg, Maryland 20878.

SYSTEM MANAGER(S):

Phil Brown, Brown.Phil@epa.gov, 202-564-2607, Director, LERD, OHR, OMS, 1200 Pennsylvania Avenue NW, Washington, DC 20460.

AUTHORITY FOR MAINTENANCE OF THE SYSTEM:

5 U.S.C. Chapter 71; 5 U.S.C. Chapter 43; 5 U.S.C. Chapter 75; 5 CFR 771; 5 CFR 752; 5 CFR 432.

PURPOSE(S) OF THE SYSTEM:

These records are maintained in LERTS to administer EPA's Labor and Employee Relations program. Records in LERTS have various uses by Agency personnel offices, including employee's rights and benefits under pertinent laws and regulations governing Federal employment; and other information needed to provide personnel services.

CATEGORIES OF INDIVIDUALS COVERED BY THE SYSTEM:

Current and former EPA employees.

CATEGORIES OF RECORDS IN THE SYSTEM:

This system will contain general human resources elements, including: Name, Appointment Type and Dates, Position Title, Pay Plan, Occupational Series, Grade, Step, Supervisory Code, Bargaining Unit Status Code, and Duty Station. The system will contain Labor Relations case file information regarding grievances, union information requests, negotiations, unfair labor practice (ULP) charges, and unit clarification petitions. The system will contain Employee Relations case file information regarding management/employee counseling matters, including: conduct actions, performance-based actions, internal investigations, reasonable accommodation requests, and labor and employment litigation.

RECORD SOURCE CATEGORIES:

The individual on whom the record is maintained, Agency officials such as managers and supervisors, union or legal representatives, and HR personnel.

ROUTINE USES OF RECORDS MAINTAINED IN THE SYSTEM, INCLUDING CATEGORIES OF USERS AND PURPOSES OF SUCH USES:

The routine uses below are both related to and compatible with the original purpose for which the information was collected. The following general routine uses apply to this system (86 FR 62527, November 10, 2021): A, B, C, D, E, F, G, H, I, J, K, L, and M apply to this system.

POLICIES AND PRACTICES FOR STORAGE OF RECORDS:

Electronic records are stored in computers, removable drives, storage devices, electronic databases, servers, and other electronic media hosted by AINS, Inc.

POLICIES AND PRACTICES FOR RETRIEVAL OF RECORDS:

These records are retrieved by the employee identification number or name.

POLICIES AND PRACTICES FOR RETENTION AND DISPOSAL OF RECORDS:

Records stored in the system are subject to records schedule 756.

ADMINISTRATIVE, TECHNICAL, AND PHYSICAL SAFEGUARDS:

Security controls used to protect personal sensitive data in Labor and Employee Relations Tracking System (LERTS) are commensurate with those required for an information system rated MODERATE for confidentiality, integrity, and availability, as prescribed in National Institute of Standards and Technology (NIST) Special Publication, 800-53, “Security and Privacy Controls for Information Systems and Organizations,” Revision 5.

1. Administrative Safeguards: Information Security and Privacy Awareness Training is completed by all EPA personnel at least annually. EPA Rules of Behavior are reviewed and signed by EPA personnel at least annually. Security and privacy controls assessments are performed by a third-party assessment organization annually. In addition: AINS, Inc. ensures its employees complete security awareness and role-based training.

2. Technical Safeguards: Role-based access control for all users. Multi-factor authentication via Agency VPN access (PIV/PIN) and Single sign-on. Audit log generation of system-level events, which is reviewed weekly. LERTS uses Digicerts digital security Certificates, Transport Layer Security (TLS), and is accessible only using https protocol. LERTS also utilizes anti-virus, content filtering, and firewalls for intrusion prevention/detection.

3. Physical Safeguards: Physical access to AINS, Inc. servers is limited to: Authorized personnel lists via access controls. Site monitoring 24x7 via security cameras and security staff. Limited access (via digital code and bio-metric scanner) to system transmission lines. Secured power equipment and cabling (protected from environmental factors and covered with conduit).

RECORD ACCESS PROCEDURES:

All requests for access to personal records should cite the Privacy Act of 1974 and reference the type of request being made (i.e., access). Requests must include: (1) the name and signature of the individual making the request; (2) the name of the Privacy Act system of records to which the request relates; (3) a statement whether a personal inspection of the records or a copy of them by mail is desired; and (4) proof of identity. A full description of EPA's Privacy Act procedures for requesting access to records is included in EPA's Privacy Act regulations at 40 CFR part 16.

CONTESTING RECORD PROCEDURES:

Requests for correction or amendment must include: (1) the name and signature of the individual making the request; (2) the name of the Privacy Act system of records to which the request relates; (3) a description of the information sought to be corrected or amended and the specific reasons for the correction or amendment; and (4) proof of identity. A full description of EPA's Privacy Act procedures for the correction or amendment of a record is included in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

79 FR 65393—Established a new System of Records for the Labor and Employee Relations Information System (LERIS) (November 4, 2014).

Vaughn Noga,
Senior Agency Official for Privacy.

[FR Doc. 2022-23908 Filed 11-2-22; 8:45 am]

BILLING CODE 6560-50-P